FEDERAL ELECTION COMMISSION

11 CFR Part 100

[NOTICE 2004-12]

Rulemaking Petition: Exception for the Promotion of Political Documentary Films From “Electioneering Communications”

AGENCY: Federal Election Commission.

ACTION: Rulemaking petition: notice of availability.

SUMMARY: On July 20, 2004, the Commission received a Petition for Rulemaking (“Petition”) from Mr. Robert F. Bauer (“Petitioner”). The Petition asks the Commission to revise its regulations by exempting the promotion of political documentary films that may otherwise meet the requirements of an electioneering communication within the meaning of the Federal Election Campaign Act of 1971, as amended (the “Act”). The Petition is available for inspection in the Commission's Public Records Office, through its Faxline service, and on its Web site, http://www.fec.gov. Further information is provided in the supplementary information that follows.

DATES: Statements in support of, or in opposition to, the Petition must be submitted on or before September 27, 2004.

ADDRESSES: All comments should be addressed to Mr. Brad C. Deutsch, Assistant General Counsel, and must be submitted in either electronic or written form. Commenters are strongly encouraged to submit comments electronically to ensure timely receipt and consideration. Electronic mail comments should be send to ECADSNOA@fec.gov and must include the full name, electronic mail address, and postal service address of the commenter. Electronic mail comments that do not contain the full name, electronic mail address, and postal service address of the commenter will not be considered. If the electronic mail comments include an attachment, the attachment must be in the Adobe Acrobat (.pdf) or Microsoft Word (.doc) format. Faxed comments should be sent to (202) 219-3923, with printed copy follow-up to ensure legibility. Written comments and printed copies of faxed comments should be sent to the Federal Election Commission, 999 E Street, NW., Washington, DC 20463. The Commission will post public comments on its Web site.

FOR FURTHER INFORMATION CONTACT: Mr. Brad C. Deutsch, Assistant General Counsel, or Ms. Amy L. Rothstein, Attorney, 999 E Street, NW., Washington, DC 20463, (202) 694-1650 or (800) 424-9530.

SUPPLEMENTARY INFORMATION: The Federal Election Commission (“Commission”) has received a Petition for Rulemaking from Mr. Robert F. Bauer, acting on his own behalf and not on behalf of any client or other interested party. Petitioner asks the Commission to revise 11 CFR 100.29(c) to exempt from the term “electioneering communications” any communication appearing in a promotion for a political documentary film “by corporations and other entities established and operating for such purpose in the ordinary course of their businesses,” provided that the promotion does not “promote, support, attack or oppose” a candidate for federal office within the meaning of 2 U.S.C. 431(20)(A)(iii). Petitioner seeks to have any such protections also apply to the promotion, in the ordinary course of business, of “books, plays, and other forms of political expression that may involve references to Federal candidates.”

The Commission seeks comments on whether the Commission should initiate a rulemaking on “electioneering communications” and on whether there are other issues regarding the electioneering communications rules that should also be addressed in a rulemaking at this time.¹

¹ Certain aspects of the Commission's regulations regarding electioneering communications are the subject of a pending lawsuit in the United States District Court for the District of Columbia. Shays and Meehan v. FEC, Civ. Act. 02-CV-1984.

Copies of the Petition are available for public inspection at the Commission's Public Records Office, 999 E Street, NW., Washington, DC 20463, Monday though Friday between the hours of 9 a.m. and 5 p.m., and on the Commission's Web site, http://www.fec.gov. Interested persons may also obtain a copy of the Petition at any time by dialing the Commission's Faxline service at (202) 501-3413 and requesting document # 257.

Consideration of the merits of the Petition will be deferred until the close of the comment period. If the Commission decides that the Petition has merit, it may begin a rulemaking proceeding. Any subsequent action taken by the Commission will be announced in the Federal Register.

Dated: August 20, 2004.
Bradley A. Smith,
Chairman, Federal Election Commission.

[FR Doc. 04-19526 Filed 8-25-04; 8:45 am]

BILLING CODE 6715-01-P